DEPARTMENT OF TRANSPORTATION

Federal Aviation Administration

14 CFR Part 39

[Docket No. FAA-2005-20349; Directorate Identifier 2003-NM-108-AD]

RIN 2120-AA64

Airworthiness Directives; McDonnell Douglas Model MD-11 and -11F Airplanes; Model DC-10-10 and DC-10-10F Airplanes; Model DC-10-15 Airplanes; Model DC-10-30 and DC-10-30F (KC-10A and KDC-10) Airplanes; Model DC-10-40 and DC-10-40F Airplanes; and Model MD-10-10F and MD-10-30F Airplanes

AGENCY: Federal Aviation Administration (FAA), Department of Transportation (DOT).

ACTION: Proposed rule; withdrawal.

SUMMARY: The FAA withdraws a notice of proposed rulemaking (NPRM) that proposed a new airworthiness directive (AD) for certain McDonnell Douglas transport category airplanes. The proposed AD would have required replacement with new, improved parts of the inboard flap, outboard hinge, forward attach bracket, and lower attach bolt assemblies. The proposed AD also would have required an inspection for certain parts, and related investigative and corrective actions if necessary. Since the proposed AD was issued, we have confirmed data indicating that an existing AD adequately addresses the unsafe condition. Accordingly, the proposed AD is withdrawn.

ADDRESSES: You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-20349; the directorate identifier for this docket is 2003-NM-108-AD.

FOR FURTHER INFORMATION CONTACT: Ronald Atmur, Aerospace Engineer, Airframe Branch, ANM-120L, FAA, Los Angeles Aircraft Certification Office, 3960 Paramount Boulevard, Lakewood, California 90712-4137; telephone (562) 627-5224; fax (562) 627-5210.

SUPPLEMENTARY INFORMATION:

Discussion

We proposed to amend part 39 of the Federal Aviation Regulations (14 CFR part 39) with a notice of proposed rulemaking (NPRM) for a new AD for certain McDonnell Douglas transport category airplanes. That NPRM was published in the Federal Register on February 15, 2005 (70 FR 7683). The NPRM would have required replacement with new, improved parts of the inboard flap, outboard hinge, forward attach bracket, and lower attach bolt assemblies. The NPRM also would have required an inspection for certain parts, and related investigative and corrective actions if necessary. The NPRM was prompted by a report indicating that the left-hand inboard flap outboard hinge pulled away from the wing structure. The proposed actions were intended to prevent loose preload-indicating (PLI) washers or cracked or corroded nuts of the lower bolts of the inboard flap outboard hinge, which could result in separation of the inboard flap outboard hinge from the wing structure and consequent reduced controllability of the airplane.

Actions Since NPRM Was Issued

Since we issued the NPRM, we have determined that existing AD 2004-02-06, amendment 39-13441 (68 FR 4450, January 30, 2004) adequately addresses the unsafe condition specified in the NPRM. AD 2004-02-06 requires a general visual inspection to detect cracking in the nuts on the lower attach bolt assemblies of the forward attach bracket of the inboard flap outboard hinge, replacement of both upper and lower attach bolt assemblies with new bolts and nuts made from Inconel material, and replacement of certain PLI washers with new washers. For certain other airplanes, the AD requires replacement of the lower attach bolt assemblies of the inboard forward attach bracket of the inboard flap outboard hinge with new bolts and nuts made from Inconel material, and replacement of PLI washers with new washers. That AD was issued to prevent separation of the inboard flap outboard hinge from the wing structure and consequent reduced controllability of the airplane.

FAA's Conclusions

Upon further consideration, we have determined that, since the identified unsafe condition is being adequately addressed by existing AD requirements, it is unnecessary to provide further rulemaking at this time. Accordingly, the NPRM is withdrawn.

Withdrawal of the NPRM does not preclude the FAA from issuing another related action or commit the FAA to any course of action in the future.

Regulatory Impact

Since this action only withdraws an NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, we withdraw the NPRM, Docket No. FAA-2005-20349, Directorate Identifier 2003-NM-108-AD, which was published in the Federal Register on February 15, 2005 (70 FR 7683).

Issued in Renton, Washington, on May 26, 2005.
Ali Bahrami,
Manager, Transport Airplane Directorate, Aircraft Certification Service.

[FR Doc. 05-11047 Filed 6-2-05; 8:45 am]

BILLING CODE 4910-13-P